ENVIRONMENTAL PROTECTION AGENCY

[OECA-2004-0035; FRL-7895-6 ]

Agency Information Collection Activities; Submission for OMB Review and Approval; Comment Request; NESHAP for Marine Tank Vessel Loading Operations (Renewal), ICR Number 1679.05, OMB Control Number 2060-0289

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on May 31, 2005. Under OMB regulations, the Agency may continue to conduct or sponsor the collection of information while this submission is pending at OMB. This ICR describes the nature of the information collection and its estimated burden and cost.

DATES: Additional comments may be submitted on or before May 9, 2005.

ADDRESSES: Submit your comments, referencing docket ID number OECA-2004-0035, to (1) EPA online using EDOCKET (our preferred method), by e-mail to docket.oeca@epa.gov, or by mail to: EPA Docket Center, Environmental Protection Agency, Enforcement and Compliance Docket and Information Center, Mail Code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Dan Chadwick, Compliance Assessment and Media Programs Division, Office of Compliance, 2223A, Environmental Protection Agency, 1200 Pennsylvania Ave., NW., Washington, DC 20460; telephone number: (202) 564-7054; fax number: (202) 564-0050; e-mail address: chadwick.dan@epa.gov.

SUPPLEMENTARY INFORMATION: EPA has submitted the following ICR to OMB for review and approval according to the procedures prescribed in 5 CFR 1320.12. On September 14, 2004 (69 FR 55430), EPA sought comments on this ICR pursuant to 5 CFR 1320.8(d). EPA received no comments.

EPA has established a public docket for this ICR under Docket ID No. OECA-2004-0035, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Marine Tank Vessel Loading Operations (Renewal).

Abstract: This information collection request addresses Clean Air Act information collection requirements in standards published at 40 CFR part 63, subpart Y, which have mandatory recordkeeping and reporting requirements. The information collected under these requirements concern compliance with emissions standards relating to loading of marine tank vessels with petroleum and gasoline. Records collected under the National Emission Standards for Hazardous Air Pollutants (NESHAP) must be retained by the owner or operator for at least five years, so that the recorded can be shown to inspectors when requested. In general, the required collections consist of emissions data and other information deemed not to be private (40 CFR 63.15).

Delegated states and EPA Regional Offices use the information collected under these requirements to determine compliance with the NESHAP. In the absence of such information collection requirements, enforcement personnel would be unable to determine whether the standards are being met on a continuous basis, as required by the Clean Air Act.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 12 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are marine tank vessel loading operations at marine terminals.

Estimated Number of Respondents: 804.

Frequency of Response: On occasion, Semi-annually, Annually.

Estimated Total Annual Hour Burden: 9,872 hours.

Estimated Total Annual Costs: $629,850 which includes $0 annualized capital/startup costs, $0 annual O&M costs, and $629,850 in Respondent Labor costs.

Changes in the Estimates: There is a decrease of 18,259 hours in the total estimated burden currently identified in the OMB Inventory of Approved ICR Burdens. This decrease is due to a change in the estimated number of facilities that submit reports from 105 to 38 and correction of the frequency of HAP control efficiency reports from quarterly to annually.

Balancing these decreases are three sources of increase in burden. Recordkeeping burden for facilities that keep records but do not report, not considered in previous versions of the ICR, is included here at one hour for each of 766 facilities. Industry labor rates increased by an average of 16.7% from those in the active ICR. Calculated burden also increased by including managerial and clerical labor, which had not been included in the previous ICR.

Dated: March 25, 2005.
Oscar Morales,
Director, Collection Strategies Division.

[FR Doc. 05-6849 Filed 4-6-05; 8:45 am]

BILLING CODE 6560-50-P